DEPARTMENT OF HOMELAND SECURITY

Coast Guard

33 CFR Part 117

[Docket No. USCG-2011-1073]

Drawbridge Operation Regulation; Atlantic Intracoastal Waterway (AIWW), Chesapeake, VA

AGENCY: Coast Guard, DHS.

ACTION: Notice of temporary deviation from regulations.

SUMMARY: The Commander, Fifth Coast Guard District, has issued a temporary deviation from the regulation governing the operation of the I64 Bridge across the Atlantic Intracoastal Waterway, South Branch of the Elizabeth River, mile 7.1, at Chesapeake, VA. The deviation is necessary for bridge rehabilitation and maintenance work. This deviation allows the bridge to remain in the closed-to-navigation position.

DATES: This deviation is effective from 7 a.m. on December 11, 2011 to 7 p.m. on December 18, 2011.

ADDRESSES: Documents mentioned in this preamble as being available in the docket are part of docket USCG-2011-1073 and are available online by going to http://www.regulations.gov, inserting USCG-2011-1073 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Lindsey Middleton, Bridge Management Specialist, Coast Guard; telephone (757) 398-6629, email Lindsey.R.Middleton@uscg.mil. If you have questions on viewing the docket, call Renee V. Wright, Program Manager, Docket Operations, telephone (202) 366-9826.

SUPPLEMENTARY INFORMATION: Virginia Department of Transportation (VDOT) has requested a temporary deviation from the current operating regulations of the I64 Bridge across the AIWW, South Branch of the Elizabeth River, mile 7.1 at Chesapeake, VA. The requested deviation is to accommodate the rehabilitation of the mechanical systems of the bridge and will allow the bridge to remain in the closed-to-navigation position throughout the week. The vertical clearance of this bridge is 65 feet at mean high water (MHW) in the closed-to-navigation position and unlimited in the open position. During this closure period, the vertical clearance in the closed position will remain at 65 feet at MHW and vessels able to pass under the bridge may do so at any time. The bridge will not be able to open for emergencies and there are no alternate routes available to vessels.

The current operating schedule for the bridge is set out in 33 CFR 117.997(e) which requires the bridge to open on signal if at least 24 hours notice is given.

VDOT has reached out to the main waterway user requiring bridge openings and schedules have been worked out accordingly. The majority of vessel traffic utilizing this waterway is tugs and tows. The Coast Guard will inform all other users of the waterway through our Local and Broadcast Notices to Mariners which will allow mariners to arrange their transits to minimize delay.

In accordance with 33 CFR 117.35(e), the drawbridge must return to its regular operating schedule immediately at the end of the designated time period. This deviation from the operating regulations is authorized under 33 CFR 117.35.

Dated: November 22, 2011.
Waverly W. Gregory, Jr.,
Bridge Program Manager, by direction of the Commander, Fifth Coast Guard District.

[FR Doc. 2011-31330 Filed 12-6-11; 8:45 am]

BILLING CODE 9110-04-P